DEPARTMENT OF TRANSPORTATION

Federal Aviation Administration

14 CFR Parts 21, 121, 135, 145, and 183

[Docket No. FAA-2003-16685; Amendment Nos. 21-86, 121-311, 135-97, 145-23, and 183-12]

RIN 2120-AH79

Establishment of Organization Designation Authorization Program

AGENCY: Federal Aviation Administration (FAA), DOT.

ACTION: Final rule; Notice of Office of Management and Budget approval for information collection.

SUMMARY: This notice announces the Office of Management and Budget's approval of the information collection requirements in the final rule, Establishment of Organization Designation Authorization Program. Affected parties were not required to comply with the information collection requirements of this rule until a notification of OMB approval was published in the Federal Register.

DATES: This rule was published in the Federal Register on October 13, 2005 (70 FR 59932). The FAA received OMB approval for the information collection requirements on September 22, 2005. The final rule becomes effective on November 14, 2005, and affected parties will be required to comply with information collection requirements at that time.

FOR FURTHER INFORMATION CONTACT: For technical issues, Ralph Meyer, Delegation and Airworthiness Programs Branch, Aircraft Engineering Division (AIR-140), Aircraft Certification Service, Federal Aviation Administration, 6500 S. MacArthur Blvd, ARB Room 308, Oklahoma City, OK 73169; telephone (405) 954-7072; facsimile (405) 954-2209, e-mail ralph.meyer@faa.gov. For legal issues, Karen Petronis, Office of the Chief Counsel, Regulations Division (AGC-200), Federal Aviation Administration, 800 Independence Avenue, SW., Washington, DC 20591; telephone (202) 267-3073; facsimile (202) 267-7971; e-mail karen.petronis@faa.gov.

SUPPLEMENTARY INFORMATION:

Background

On October 13, 2005, the FAA published the final rule, Establishment of Organization Designation Authorization Program (70 FR 59932). This rule contains information collection requirements in §§ 183.43, 183.45, 183.53, 183.55, 183.57, 183.63, and 183.65. As we noted in the rule's preamble, affected parties were not required to comply with these information collection requirements until the Office of Management and Budget (OMB) assigned a control number for them, and the FAA published the number in the Federal Register.

According to the Paperwork Reduction Act, OMB approved the FAA's request for information collection on September 22, 2005. Please note that an agency may not conduct or sponsor, and a person is not required to respond to, a collection of information unless the agency displays a currently valid OMB control number. The OMB control number associated with this collection is 2120-0704. The request was approved by OMB without change and expires on September 30, 2008.

Issued in Washington, DC, on October 31, 2005.
Anthony F. Fazio,
Director, Office of Rulemaking.

[FR Doc. 05-22129 Filed 11-4-05; 8:45 am]

BILLING CODE 4910-13-U